DEPARTMENT OF TRANSPORTATION

Office of the Secretary

[Docket OST-02-12148]

Electronic Transmission and Storage of Drug Testing Information Federal Advisory Committee; Meeting

AGENCY: Office of the Secretary, Department of Transportation.

ACTION: Notice of Federal Advisory Committee meeting.

SUMMARY: Pursuant to the Federal Advisory Committee Act (Pub. L. 92-463, 86 Stat. 770) notice is hereby given that the Department of Transportation (DOT) Electronic Transmission and Storage of Drug Testing Information Federal Advisory Committee will meet for the second time in a public session on April 7-8, 2003, at the Embassy Suites Hotel, Crystal City—National Airport, 1300 Jefferson Davis Highway, Arlington, VA 22202, (703) 979-9799, FAX: (703) 892-8121. The purpose of the Committee is to recommend to the Department the type and level of electronic security that should be used for the transmission and storage of drug testing information, to assess the type of format and methodology that would be appropriate, and to recommend the level and type of electronic signature technology that would support the procedures used in the DOT drug and alcohol program. The Committee held its first meeting on June 18-19, 2002 in Washington, DC. A list of the committee members and a copy of the first meeting's transcripts are available in the docket posted on the Internet at http://dms.dot.gov/search/; the docket number is 12148.

FOR FURTHER INFORMATION CONTACT: Don Shatinsky or Minnie McDonald, Office of Drug and Alcohol Policy and Compliance (ODAPC), Office of the Secretary, Department of Transportation at voice (202) 366-3784, fax (202) 366-3897.

SUPPLEMENTARY INFORMATION: Since the beginning of drug testing, the DOT has sought ways to reduce the significant amount of paper documentation generated for the forensic accountability of drug test results. We are now in an era of various electronic capabilities that can further reduce the paper work burden. The transportation industry is asking us to move more in that direction. We want to accommodate this request, but we want to make sure that the integrity and confidentiality requirements of the program are maintained.

The Department made modest changes when 49 CFR Part 40 was updated and republished on April 19, 2000. We permitted greater use of faxes and scanned computer images for reporting test results. Additionally, for negative test results we permitted laboratories to send electronic reports to MROs, provided the laboratory and MRO ensured that the information is accurate and can be transmitted in such a manner as to prevent unauthorized access or release while it is transmitted or stored.

The Department believes that the increased use of electronic reporting is both inevitable and beneficial. At the same time, we want to make sure that there are good, consistent minimum standards for the use of this technology, in order to protect the important integrity and confidentiality requirements of the program. For these reasons, DOT established the Electronic Transmission and Storage of Drug Testing Information Federal Advisory Committee. The purpose of the Committee is to recommend regulatory modifications it deems necessary if Part 40 is to accommodate newer electronic technology. The Committee will assess the current status of electronic security technology and will make recommendations about consistent minimum standards for its use in the transmission and storage of drug testing results. Additionally, the Committee will examine the formats and methodologies used in transmitting electronic information, as well as the concept, parameters, and procedures used in implementing electronic signature technology within the frame work of the DOT drug and alcohol testing program. The Committee will advise DOT regarding these findings. The Department anticipates that, following the receipt of the Committee's final recommendations, DOT will propose changes to Part 40 through a notice of proposed rulemaking that will result in minimum standards for security in transmission and storage of drug testing information and would result in a more widespread use of electronic technology in the program.

The Committee held its first public meeting on June 18-19, 2002 in Washington, DC. The first meeting was used to introduce the Committee Members, review the purpose of the Committee, and to review some of the issues that the Committee needs to address as part of the process to develop appropriate recommendations to the DOT. Presentations from the major sections of interested stake holders were conducted by Committee members, invited guests, and by the general public. A complete transcription of all discussions during the two days is available at the above-cited internet web site. Additionally, three sub-committees composed of Committee members were established to research, develop, and provide information to the whole Committee at its next meeting. These sub-committees addressed the following three areas: 1. Format of electronic reports; 2. security of electronic transmission and digital signatures; and 3. storage security of electronic information. This second meeting will focus on specific findings, issues, and recommendations of the sub-committees related to these three areas. Opportunity will be available for the general public to also make comments related to the information presented by the committee members.

Tentative agenda: Monday, April 7, 2003, 8:30 a.m.-12 p.m.: General presentations by the sub-committee chairpersons, 12 p.m.-1:15 p.m.: Lunch, 1:15 p.m.-3:30 p.m.: Continued presentations, 3:30 p.m.-5 p.m.: Public Comments or Presentations, 5 p.m.: End of First Day. Tuesday, April 9, 2003, 8:30 a.m.-12 p.m.: Discussion of Options and Future Committee Actions, 12 p.m.: Closing Comments, 2 p.m.: End of Meeting. A final agenda will be available to the public prior to the beginning of the meeting.

The meeting will be open to the public on a first-come first-seated basis. Anyone needing special accommodations for persons with disabilities, please notify Minnie McDonald at (202) 366-3784 at least two weeks prior to the meeting.

Members of the public wishing to file a written statement with the DOT Electronic Transmission and Storage of Drug Testing Information Federal Advisory Committee may do so by submitting comments by mail or by delivering them to the Docket Clerk, Attn: Docket No. OST-02-12148, Department of Transportation, 400 7th Street, SW., Room PL401, Washington, DC, 20590. Comments may also be faxed to the Docket Clerk at (202) 493-2251. Persons wishing their comments to be acknowledged should enclose a stamped, self-addressed postcard with their comments. The docket clerk will date stamp the postcard and return it to the sender. For the convenience of persons wishing to review the docket, it is requested that paper comments be sent in triplicate in an unbound format, no larger than 8½ by 11 inches, suitable for copying and electronic filing. Comments may be reviewed at the above address from 9 a.m. through 5 p.m. Monday through Friday. Commenters may also submit their comments electronically. Instructions for electronic submission may be found at the following Web address: http://dms.dot.gov/submit/. The public may also review docket comments electronically (docket number is 12148). The following web address provides instructions and access to the DOT electronic docket: http://dms.dot.gov/search/. Please use only one method for submission of your comments. Please do not send duplicates by submitting a written and an electronic version.

There will be a time allocated for the public to speak on any of the above agenda items. Please make your request for the opportunity to make a public comment in writing to Minnie McDonald, ODAPC, at (202) 366-3784, FAX (202) 366-3897, or e-mail address: minnie.mcdonald@ost.dot.gov/ two weeks prior to the meeting. Your notification should contain your name and corporate designation, consumer affiliation, or government designation. Please include your address, telephone number and e-mail in case there is reason to contact you regarding your presentation. Those wanting to make a verbal statement should also include a short statement describing the topic to be addressed. Requestors will ordinarily be allowed up to 10 minutes to present a topic, however, the time may be limited depending on the number of requestors. If you have submitted a written statement to the docket, there is no need to subsequently duplicate this information by an oral presentation.

The Committee meeting will be recorded and transcribed. Within a short time after the meeting, copies of the transcripts will be available on the DOT electronic docket.

DATES AND TIME: The Electronic Transmission and Storage of Drug Testing Information Federal Advisory Committee will meet in open session on April 7, 2003, from 8:30 a.m. to 5 p.m. and on April 8, 2003, from 8:30 a.m. to 2 p.m.

ADDRESSES: The meeting will take place at the Embassy Suites Hotel, Crystal City—National Airport, 1300 Jefferson Davis Highway, Arlington, VA 22202, (703) 979-9799, FAX: (703) 892-8121. The hotel is close to the Pentagon City and Crystal City METRO stops and can be reached via the blue or yellow lines. Attendees, other than Committee members, who need lodging may obtain a discounted room rate directly from the hotel by referring to the “DOT Federal Advisory Committee” meeting. The hotel reservation telephone number is (800) 362-2779. A limited number of rooms will be available at the discounted rate and reservations must be made by March 14, 2003.

Dated: March 4, 2003.
Kenneth C. Edgell,
Acting Director, Office of Drug and Alcohol Policy and Compliance, Department of Transportation.

[FR Doc. 03-5626 Filed 3-5-03; 2:09 pm]

BILLING CODE 4910-62-M